FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—08/05/2002
20021022 | Kinross Gold Corporation | Echo Bay Mines Ltd | Echo Bay Mines Ltd.
20021031 | Pekka Herlin | Partek Corporation | Partek Corporation.
Transactions Granted Early Termination—08/08/2002
20020960 | Bunge Limited | Italenergia Spa | Cereol S.A.
20021027 | Varco International, Inc | ICO, Inc | ICO Worldwide, Inc.
20021035 | Joseph E. Wagner | John L Rust & Donna G Rust | John L. Rust Company.
20021036 | WPS Resources Corporation | Calpine Corporation | De Pere Energy, L.L.C.
20021045 | Wachovia Corporation | Cameron M. Harris | Cameron M. Harris & Company.
Transactions Granted Early Termination—08/12/2002
20021003 | Koninklijke BAM NBM N.V | Grupo Dragados SA | Hollandsche Beton Groep N.W.
20021033 | Newmont Mining Corporation | Kinross Gold Corporation | Kinross Gold Corporation.
20021047 | FTI Consulting, Inc | PriceWaterhouseCoopers LLP | PriceWaterhouseCoopers LLP.
20021048 | Long Point Capital Fund, L.P | Okaw Buildings, Inc. | Okaw Buildings, Inc.
20021051 | KKR European Fund, Limited Partnership | Siemens AG | Demag Cranes and Components GmbH & Co. KG.
|  |  | Gottwald Port Technology GmbH & Co. KG.
|  |  | Mannesmann Plastics Machinery AG.
|  |  | Power Generation Ceramics.
|  |  | Siemens European Network Services.
|  |  | Siemens Metering GmbH & Co. KG.
|  |  | Stabilus GmbH.
20021053 | Stronach Trust | Joseph A. DeFrancis | Laurel Racing Association Limited partnership.
|  |  | Pimlico Racing Association, Inc.
20021055 | Wellspring Capital Partners II, L.P | International Multifoods Corporation | Multifoods Distribution Management, Inc.
20021057 | Alliant Energy Corporation | Mirant Corporation | Mirant Neenah, LLC.
Transactions Granted Early Termination—08/13/2002
20021017 | Headwaters Incorporated | Industrial services Group, Inc | Industrial Services Group, Inc.
20021025 | EG&G Technical Services Holdings, L.L.C | URS Corporation | URS Corporation.
20021044 | Anixter International Inc | Pentacon, Inc | JIT Holdings, Inc.
|  |  | Pentacon Aerospace Group, Inc.
|  |  | Pentacon Canada Corporation.
|  |  | Pentacon Delaware, Inc.
|  |  | Pentacon Europe Limited.
|  |  | Pentacon Industrial, Inc.
|  |  | Pentacon International Sales, Inc.
|  |  | Pentacon Mexico S.A. de C.V.
|  |  | Pentacon Properties, L.P.
|  |  | Pentacon USA, L.P.
|  |  | Pentacon, Inc.
Transactions Granted Early Termination—08/14/2002
20021023 | URS Corporation | EG&G Technical Services Holdings, L.L.C. | Carlyle-EG&G Holdings Corp.
|  |  | Lear Siegler Services, Inc.
Transactions Granted Early Termination—08/15/2002
20021021 | Symantec Corporation | Riptech Inc | Riptech Inc.
20021030 | Symantec Corporation | Recourse Technologies, Inc | Recourse Technologies, Inc.
Transactions Granted Early Termination—08/16/2002
20021043 | MidAmerican Energy Holdings Company | Dynegy, Inc | Northern Natural Gas Company.
Transactions Granted Early Termination—08/19/2002
20021007 | eBay Inc | PayPal, Inc | PayPal, Inc.
20021020 | Terex Corporation | Siemens AG | Demag Mobile Cranes GmbH & Co. KA.
|  |  | Demag Mobile Cranes Verwaltungsgesellschaft mbH.
20021040 | Temasek Holdings (Private) Limited | Friede Goldman Halter, Inc | Gulf Coast Fabrication, Inc.
|  |  | Halter Gulf Repair, Inc.
|  |  | Halter Marine Gulfport, Inc.
|  |  | Halter Marine Pascagoula, Inc.
|  |  | Halter Marine Services, Inc.
|  |  | Halter Marine, Inc., a Louisiana corporation.
|  |  | Halter Marine, Inc., A Nevada corporation.
20021066 | Macquarie Global Infrastructure Fund A | Associated British Ports Holdings PLC | American Port Services, Inc.
|  |  | Amports Avcenters, Inc.
|  |  | ILG Avcenter, Inc.
20021067 | Macquarie Global Infrastructure Fund B | Associated British Ports Holdings PLC | American Port Services, Inc.
|  |  | Amports Avcenters, Inc.
|  |  | ILG Avcenter, Inc.
20021068 | Wescast Industries, Inc | George W. Mathews, Jr | Georgia Ductile Foundaries, LLC.
20021071 | Mr. Sumner M. Redstone | Sesame Workshop | Noggin LLC.
20021076 | Delaware Champion Holdings, LLC | Diageo plc | Burger King Corporation.
Transactions Granted Early Termination—08/20/2002
20021061 | Kao Corporation | Alan Howard Frieda, a/k/a John Frieda | Gaelle International, LLC.
|  |  | John Frieda Products.
|  |  | John Frieda Professional Hair Care, Inc.
|  |  | John Frieda SarL.
|  |  | John Frieda International, LLC.
20021062 | Blum Strategic Partners II, L.P | PRG-Schultz International, Inc | PRG-Schultz International, Inc.
20021077 | J. Joe and Marlene M. Ricketts | Ameritrade Holding Corporation | Ameritrade Holding Corporation.
Transactions Granted Early Termination—08/21/2002
20021049 | Terex Corporation | Robert R. Wilkerson | Genie Holdings, Inc.
Transactions Granted Early Termination—08/22/2002
20021080 | Dr. Michael W. J. Smurfit | Smurfit-Stone Container Corporation | Smurfit-Stone Container Corporation.
Transactions Granted Early Termination—08/23/2002
20021083 | Riverdeep Group plc | Alex E. Gores | Broderbund Properties, LLC.
20021087 | Dexia S.A | The PMI Group, Inc | Broderbund, LLC and Fairbanks Capital Holding Corp.
20021088 | Bureau Veritas S.A | U.S. Laboratories Inc | U.S. Laboritories Inc.
20021093 | Metalurigica Gerdau, S.A | Co-Steel Inc | Co-Steel Inc.
20021095 | Questor Partners Bermuda, L.P | Fiat S.p.A | Fonderies du Poitou Aluminum S.A.
|  |  | Founderies Aluminum Cleon S.A.
|  |  | Teksid Aluminum Components Inc.
|  |  | Teksid Aluminum Fondry Inc.
|  |  | Teksid Aluminum SpA.
|  |  | Teksid Aluminumn Poland S.p.Z.o.o.
|  |  | Teksid do Brasil Aluminio Ltda.
|  |  | Teksid France S.A.
|  |  | Teskid Investment Aluminum B.V.
Transactions Granted Early Termination—08/27/2002
20021091 | Japan Airlines Company, Ltd | Japan Air System Co., Ltd | Japan Air System Co., Ltd.
20021092 | Japan Air System Co., Ltd | Japan Airlines Company, Ltd | Japan Airlines Company, Ltd.

FOR FURTHER INFORMATION CONTACT: Sandra M. Peay or Renee A. Hallman, Contact Representative, Federal Trade Commission Premerger Notification Office, Bureau of Competition, Room 303, Washington, DC 20580, (202) 326-3100.

By Direction of the Commission.
Donald S. Clark,
Secretary.

[FR Doc. 02-22796 Filed 9-6-02; 8:45 am]

BILLING CODE 6750-01-M